INTERNATIONAL TRADE COMMISSION

[USITC SE-08-008]

Government in the Sunshine Act Meeting Notice

Agency Holding The Meeting: United States International Trade Commission.

Time and Date: May 2, 2008 at 10 a.m.

Place: Room 101, 500 E Street, SW., Washington, DC 20436, Telephone: (202) 205-2000.

Status: Open to the public.

Matters To Be Considered: 1. Agenda for future meetings: None.

2. Minutes.

3. Ratification List.

4. Inv. Nos. 731-TA-1146 and 1147 (Preliminary) (HEDP from China and India)—briefing and vote. (The Commission is currently scheduled to transmit its determinations to the Secretary of Commerce on or before May 5, 2008; Commissioners' opinions are currently scheduled to be transmitted to the Secretary of Commerce on or before May 12, 2008.)

5. Inv. No. 731-TA-1118 (Preliminary) (Frontseating Service Valves from China)—briefing and vote. (The Commission is currently scheduled to transmit its determination to the Secretary of Commerce on or before May 5, 2008; Commissioners' opinions are currently scheduled to be transmitted to the Secretary of Commerce on or before May 12, 2008.)

6. Outstanding action jackets: None.

In accordance with Commission policy, subject matter listed above, not disposed of at the scheduled meeting, may be carried over to the agenda of the following meeting.

By order of the Commission.
Issued: April 23, 2008.
William R. Bishop,
Hearings and Meetings Coordinator.

[FR Doc. E8-9205 Filed 4-25-08; 8:45 am]

BILLING CODE 7020-02-P